DEPARTMENT OF THE INTERIOR

Bureau of Safety and Environmental Enforcement

[Docket ID BSEE-2023-0005; EEEE500000 245E1700D2 ET1SF0000.EAQ000; OMB Control Number 1014-0015]

Agency Information Collection Activities; Submission to the Office of Management and Budget for Review and Approval; Unitization

AGENCY: Bureau of Safety and Environmental Enforcement, Interior.

ACTION: Notice of information collection; request for comment.

SUMMARY: In accordance with the Paperwork Reduction Act (PRA) of 1995, the Bureau of Safety and Environmental Enforcement (BSEE) proposes to renew an information collection.

DATES: Interested persons are invited to submit comments on or before February 23, 2024.

ADDRESSES: Written comments and recommendations for the proposed information collection should be sent within 30 days of publication of this notice to www.reginfo.gov/public/do/PRAMain. Find this particular information collection by selecting “Currently under 30-day Review—Open for Public Comments” or by using the search function. Please provide a copy of your comments to Nikki Mason, BSEE ICCO, 45600 Woodland Road, Sterling, VA 20166; or by email to nikki.mason@bsee.gov. Please reference OMB Control Number 1014-0015 in the subject line of your comments.

FOR FURTHER INFORMATION CONTACT: To request additional information about this ICR, contact Nikki Mason by email at nikki.mason@bsee.gov, or by telephone at (703) 787-1607. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 16, 2023 (88 FR 39458). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: BSEE must approve any lessee's proposal to enter an agreement to unitize operations under two or more leases and for modifications when warranted. We use the information to ensure that operations under the proposed unit agreement will result in preventing waste, conserving natural resources, and protecting correlative rights including the government's interests.

Title of Collection: Unitization.

OMB Control Number: 1014-0015.

Form Number: None.

Type of Review: Extension of a currently approved collection.

Respondents/Affected Public: Potential respondents include Federal OCS oil, gas, and sulfur lessees and/or operators and holders of pipeline rights-of-way.

Total Estimated Number of Annual Respondents: Currently there are approximately 555 Federal OCS oil, gas, and sulfur lessees and holders of pipeline rights-of-way. Not all the potential respondents will submit information in any given year, and some may submit multiple times.

Total Estimated Number of Annual Responses: 79.

Estimated Completion Time per Response: Varies from 1 hour to 300 hours, depending on activity.

Total Estimated Number of Annual Burden Hours: 5,998.

Respondent's Obligation: Responses are voluntary, and some are required to obtain or retain benefits.

Frequency of Collection: Submissions are generally on occasion.

Total Estimated Annual Nonhour Burden Cost: $149,836.

Burden Breakdown
Citation 30 CFR 250 subpart M | Recordkeeping and reporting requirement | Hour burden | Average number annual responses | Annual burden hours
|  | Non-hour cost burdens *
1301 | Description of requirements | Burden included in the following sections. |  | 0
1300-1304 | General departure and alternative compliance requests under subpart M regulations | Burden covered under Subpart A [1014-0022]. |  | 0
1301(a), 1303 | Apply for voluntary unitization, including submitting unit agreement, unit operating agreement, initial plan of operation, obtain approval of Regional Supervisor if required, and supporting data; request for variance from model agreement and other related requirements | 520 | 8 apps/plans | 4,160
|  | $12,619 fee × 8 applications/plans = $100,952.
1301(d), (f)(3), (g)(1), (g)(2) (ii) | Request suspension of production or operations | Burden covered under Subpart A [1014-0022]. |  | 0
1302(b) | Request preliminary determination on competitive reservoir | 116 | 1 request | 116
1302(b) | Submit concurrence or objection on competitiveness with supporting evidence | 47 | 1 request | 47
1302(c), (d) | Submit joint competitive reservoir development program, supplemental plans, or a separate plan if agreement cannot be reached | 68 | 1 plan | 68
1303; 1304 | * Submit revisions or modifications to unit agreement, unit operating agreement, plan of operation, change of unit operator, etc | 10 | 54 revs/mods | 540
|  | $896 fees × 54 revisions/modifications = $48,384.
1303; 1304 | * Submit initial, and revisions to participating area | 76 | 10 submissions | 760
1304(b) | Request compulsory unitization, including submitting unit agreement, unit operating agreement, initial plan of operation, obtain approval of Regional Supervisor if required, and supporting data; serving non-consenting lessees with documents | 300 | 1 request | 300
1304(d) | Request hearing on required unitization | 1 | 1 request | 1
1304(d) | Submit statement at hearing on compulsory unitization | 5 | 1 statement | 5
1304(e) | Pay for and submit three copies of verbatim transcript of hearing | 1 | 1 submission | 1
|  | Court reporter and 3 transcript copies for 1 hearing = $500.
1304(f) | Appeal final order of compulsory unitization | Exempt as defined in 5 CFR 1320.4(a)(2), (c). |  | 0
Total Burden | 79 Responses | 5,998
| $149,836 Non-Hour Cost Burdens.

An agency may not conduct, or sponsor and a person is not required to respond to a collection of information unless it displays a currently valid OMB control number.

The authority for this action is the Paperwork Reduction Act of 1995 (44 U.S.C. 3501 et seq.).

Kirk Malstrom,
Chief, Regulations and Standards Branch.

[FR Doc. 2024-01285 Filed 1-23-24; 8:45 am]

BILLING CODE 4310-VH-P